DEPARTMENT OF COMMERCE

National Oceanic and Atmospheric Administration

50 CFR Part 679

[Docket No. 140311229-4229-01]

RIN 0648-BE09

Fisheries of the Exclusive Economic Zone Off Alaska; Gulf of Alaska Trawl Economic Data Report

AGENCY: National Marine Fisheries Service (NMFS), National Oceanic and Atmospheric Administration (NOAA), Commerce.

ACTION: Proposed rule; request for comments.

SUMMARY: NMFS proposes to implement the Gulf of Alaska (GOA) Trawl Economic Data Report Program to evaluate the economic effects of current and anticipated future fishery management measures for the GOA trawl fisheries. This data collection program is necessary to provide the North Pacific Fishery Management Council (Council) and NMFS with baseline economic information on harvesters, crew, processors, and communities active in the GOA trawl fisheries, which could be used to assess the impacts of anticipated future fishery management measures on GOA trawl groundfish management. The data collected for this program would be submitted by vessel owners and leaseholders of GOA trawl vessels, processors receiving deliveries from those trawl vessels, and trawl catcher/processors. The types of data collected would include, but not be limited to, labor information, revenues, capital and operational expenses, and other operational or financial data. This action is intended to promote the goals and objectives of the Magnuson-Stevens Fishery Conservation and Management Act (Magnuson-Stevens Act), the GOA Fishery Management Plan, and other applicable laws.

DATES: Submit comments on or before September 10, 2014.

ADDRESSES: You may submit comments on this document, identified by NOAA-NMFS-2014-0035, by either of the following methods:

• Electronic Submission: Submit all electronic public comments via the Federal e-Rulemaking Portal. Go to www.regulations.gov/#!docketDetail;D=NOAA-NMFS-2014-0035, click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous). Attachments to electronic comments will be accepted in Microsoft Word, Excel, or Adobe PDF file formats only.

Electronic copies of the Categorical Exclusion and the Regulatory Impact Review/Initial Regulatory Flexibility Analysis (collectively, Analysis) prepared for this action are available from http://www.regulations.gov or from the NMFS Alaska Region Web site at http://alaskafisheries.noaa.gov.

Written comments regarding the burden-hour estimates or other aspects of the collection-of-information requirements contained in this proposed rule may be submitted to NMFS at the above address and by email to OIRA_Submission@omb.eop.gov or fax to 202-395-7285.

FOR FURTHER INFORMATION CONTACT: Jeff Hartman, 907-586-7228.

SUPPLEMENTARY INFORMATION: NMFS manages the groundfish fisheries in the exclusive economic zone of the GOA and Bering Sea and Aleutian Islands Management Area (BSAI) under the GOA Fishery Management Plan (GOA FMP) and BSAI Fishery Management Plan (BSAI FMP) (collectively, the FMPs). The Council prepared these FMPs under the authority of the Magnuson-Stevens Fishery Conservation and Management Act (Magnuson-Stevens Act), 16 U.S.C. 1801 et seq. Regulations implementing the FMPs appear at 50 CFR part 679. General regulations governing U.S. fisheries also appear at 50 CFR part 600.

The following sections of the preamble describe: (1) General management of trawl fisheries in the GOA, (2) the objectives and rationale for this proposed action, and (3) provisions of the proposed action.

General Management of Groundfish and PSC in the GOA

The trawl groundfish fisheries in the GOA include fisheries for pollock, sablefish, several rockfish species, numerous flatfish species, Pacific cod, and other groundfish. Trawl gear is a fishing practice that captures groundfish by towing a net above or along the ocean floor. Trawl fisheries are active in three specific areas of the GOA: (1) The West Yakutat District in the eastern portion of the GOA, (2) the Central GOA regulatory area, and (3) the Western GOA regulatory area. These specific areas are defined in regulation at § 679.2. This proposed action would apply to the federally-permitted vessels using trawl gear to harvest groundfish in these specific areas of the GOA. This proposed action would not apply to the southeastern portion of the GOA because that area is closed to trawl fisheries (63 FR 8356, February 19, 1998). Additional detail on the fisheries and groundfish species harvested in the GOA trawl fisheries in the GOA are provided in the Section 3.7 of the Analysis and in the final 2014 and 2015 harvest specifications for the GOA groundfish fisheries (79 FR 12890, March 6, 2014).

Groundfish harvested in the GOA trawl fisheries are managed under annual total allowable catch (TAC) limits. For some groundfish species, regulations limit vessels using trawl gear to a specific portion, or allocation, of the TAC. Section 3.7 of the Analysis and the final 2014 and 2015 harvest specifications for the GOA groundfish fisheries (79 FR 12890, March 6, 2014) describe these catch limits in greater detail.

To ensure that TAC limits and groundfish allocations are not exceeded, NMFS requires vessel operators participating in groundfish fisheries in the GOA to comply with a range of restrictions, such as area, time, gear, and operation-specific fishery closures. Regulations at § 679.20(d)(1), (d)(2), and (d)(3) describe the range of management measures that NMFS uses to maintain total catch at or below the TAC and groundfish species allocations to trawl gear.

In addition to these measures to limit catch of groundfish species, the Council and NMFS have adopted various measures intended to control the catch of species taken incidentally in groundfish fisheries. Certain species are designated as “prohibited species catch” (PSC) species in the FMPs because they are the primary target of other, fully utilized domestic fisheries. The FMPs and regulations at § 679.21 require that catch of PSC species must be avoided while fishing for groundfish, and when incidentally caught, these PSC species must be immediately returned to the sea with a minimum of injury. The PSC species include Pacific halibut, Pacific herring, Pacific salmon, steelhead trout, king crab, and Tanner crab.

NMFS has implemented a range of PSC control measures in the BSAI and GOA at § 679.21 for halibut, salmon, crab, and other PSC species, including: (1) Closing groundfish fishing in areas with a high occurrence of prohibited species, or where there is a relatively high level of PSC; (2) requiring the use of gear specifically modified to minimize PSC; and (3) establishing PSC limits in specific Alaska groundfish fisheries in the BSAI and GOA.

The Council has recommended and NMFS has implemented specific measures to limit PSC in the GOA trawl fisheries. These include: (1) Seasonal and annual limits on the amount of halibut PSC that may be taken; (2) seasonal and permanent area closures to protect red king crab and Tanner crab in the GOA; (3) requirements that nonpelagic trawl vessels use specific gear that minimizes impacts on red king crab and Tanner crab in the GOA; and (4) limits on the maximum amount of Chinook salmon PSC that may be taken in the directed pollock fishery in the GOA. Section 1.2 of the Analysis provides additional detail on these management measures. The Council recommended that NMFS set PSC limits for Chinook salmon caught in non-pollock GOA trawl groundfish fisheries. A proposed rule to implement Chinook salmon PSC limits in the Western and Central GOA non-pollock trawl fisheries was published in the Federal Register on June 25, 2014 (79 FR 35971).

The Council is considering new management measures so participants in the GOA trawl fisheries are better able to avoid PSC and efficiently minimize the amount of PSC that cannot be avoided. One of the management measures the Council is considering for GOA groundfish trawl fishery participants is a catch share program. A catch share program allocates exclusive harvest privileges for certain groundfish or shellfish species to specific fishery participants. This exclusive harvest privilege allows fishery participants to tailor their fishing operations to their available allocation and avoid a costly and inefficient “race for fish” with other fishery participants seeking to maximize their harvest before the TAC is reached. Over the years, the Council has recommended, and NMFS has implemented, a series of catch share programs to manage groundfish trawl harvests to specific TAC limits, while providing participants in those fisheries the ability to minimize bycatch to the extent practicable and realize greater economic revenue (see Section 3.9 and 4.6 of the Analysis for additional detail).

Catch share programs implemented for trawl fisheries have included not only an allocation of a specific portion of the TAC but also an allocation of a portion of the PSC limits for salmon or halibut depending on the program. Participants in these trawl catch share programs are prohibited from exceeding either their allocation of TAC or PSC. By allocating a portion of the TAC and PSC limits, catch share program participants have strong economic incentive to minimize their catch of PSC species to improve their chances of fully harvesting their allocation of the TAC.

The Central GOA Rockfish Program is an example of a GOA trawl catch share program that allocates a portion of the TAC for specific groundfish species and a halibut PSC limit (76 FR 81248, December 27, 2011). The Central GOA Rockfish Program has proven successful at allowing harvesters to fully harvest their groundfish species allocations while minimizing the amount of halibut PSC (Section 3.7 of the Analysis provides additional detail on the Central GOA Rockfish Program). The Council is considering a similar catch share program for other trawl fisheries in the GOA. For additional detail on catch share programs and anticipated future management of GOA trawl fisheries, see Section 1.2 of the Analysis.

Based on past experience, catch share programs have previously resulted in fundamental changes to harvesting and processing patterns. In turn, the changes have affected harvesting and processing employment and revenue. Catch share programs have also had impacts on fishing communities and associated support services, such as utilities energy, waste treatment, and social services due to the changes in harvesting and processing patterns. Catch share programs may have beneficial, neutral, or adverse economic impacts on specific businesses, communities, and employees dependent on the GOA trawl fisheries.

However, the potential economic impacts of a prospective GOA trawl catch share program are uncertain without a baseline understanding of the economic conditions prior to its implementation. In addition, understanding the economic changes that could occur upon implementation of a GOA trawl catch share program could help guide the Council and NMFS in future decisions about program modifications. For example, understanding the changes in harvesting crew revenue before and after implementation of a GOA trawl catch share program could help the Council and NMFS determine if the GOA trawl catch share program should be modified to provide additional measures to protect or enhance harvesting crew revenue.

Objectives and Rationale for the Proposed Action

The objectives of this proposed action are to: (1) Collect baseline economic data on the trawl groundfish fisheries in the GOA to evaluate the effect of prospective future GOA trawl catch share management on affected harvesters, processors, and communities, (2) implement the baseline data collection as soon as practicable, and (3) minimize the stakeholder burden to report economic data by collecting data that are reliable, relevant, and cannot be obtained from existing data collections. Given the potential for implementation of catch shares in the GOA, the scope of the proposed action would include participants in trawl fisheries in the West Yakutat District, Central GOA regulatory area, and the Western GOA regulatory area. The collection of baseline economic data in these areas would help the Council and NMFS understand the potential economic and employment impacts of a future GOA trawl catch share management program on persons participating in specific job categories of fishing, processing, or administration of fishing operations. This understanding could help guide future decisions about the management of a prospective GOA trawl catch share program.

To address these objectives, additional data are needed prior to the implementation of a GOA trawl catch share program to augment data that are currently available. The Council believes and NMFS agrees that collecting baseline information not otherwise available would provide a better understanding on the current economic conditions in the GOA trawl fisheries, and the potential impacts of a prospective GOA trawl catch share program. In particular, this proposed action would collect economic data on the crew members that participate in the GOA trawl fishery, workers in plants processing trawl-caught groundfish from the GOA, and these workers' compensation in the period before the Council fully develops and NMFS implements a GOA trawl catch share program.

In October 2013, the Council recommended that NMFS implement an economic data collection for GOA trawl fisheries through an Economic Data Report (EDR). EDRs are data collection reports submitted on an annual basis that are used to evaluate a catch share program's effectiveness. Furthermore, the EDR data are used to understand the economic effects of catch share programs. The Council based its recommendation on past experience with economic data collections that have been implemented in other catch share programs. Specifically, the Council analyzed the EDRs required for: (1) The BSAI Crab Rationalization (CR) Program (70 FR 10174, March 2, 2005); (2) the Amendment 80 Program that manages trawl catcher/processors active primarily in the BSAI, but also in the GOA (72 FR 52668, September 14, 2007); and (3) the Bering Sea pollock trawl fishery. The EDRs for the BSAI Crab CR Program and the Amendment 80 Program provide information on the economic performance of fishery participants in those catch share programs that received exclusive harvesting or processing privileges. The EDR for the Bering Sea pollock fishery provides information used to assess the economic impact of management measures designed to minimize Chinook salmon PSC in that fishery (75 FR 53026, August 30, 2010).

All three of these EDRs became effective either after catch share programs were implemented (in the case of the BSAI Crab Rationalization Program and the Amendment 80 Program) or after the Chinook salmon PSC management measures for the Bering Sea pollock fishery were implemented. Section 3.9 of the Analysis notes that because these EDRs were implemented after the catch share program or management measure was effective, they limited the ability of NMFS to effectively compare the economic impacts of the change in management. The Council recommended that the GOA trawl EDR be implemented prior to the prospective GOA trawl catch share program and thus minimize some of the limitations present in past economic data collections where EDRs were only issued and information was collected after the program was implemented.

After the Council's October 2013 recommendation, NMFS conducted additional outreach with the potentially affected industry participants and developed draft EDR forms to ensure that the proposed data collection forms would be compatible with industry recordkeeping procedures and consistent with the intent of the Council. In April 2014, the Council reviewed the proposed EDR forms developed for this proposed action and the draft regulatory text. The Council expressed its support that NMFS go forward with this proposed rule.

The following section describes: (1) The persons required to submit the proposed EDR forms and the specific data that would be collected; (2) the proposed requirements to submit the EDR forms; and (3) and the proposed methods for reviewing and auditing the EDR data.

Provisions of the Proposed Action

NMFS proposes to collect baseline economic data from persons who own, operate, or lease trawl catcher/processors (C/Ps) or trawl catcher vessels (CVs) that catch groundfish in the GOA, as well as from owners or operators of shoreside processors or stationary floating processors (SFPs) that receive catch harvested by trawl C/Ps or CVs. The baseline data includes, but is not limited to, quantities and costs of labor, fuel, and gear for vessels; it also includes labor and utility costs for processing companies. The proposed EDRs used to collect this baseline data would each be structured differently for CVs, C/Ps, and shoreside processors and SFPs because of the unique operating characteristics of these three operational groups.

Catcher/processors catch groundfish with trawl gear and process their groundfish at sea, so the proposed Annual Trawl Catcher/Processor EDR (Trawl C/P EDR) would collect data relating to groundfish catching and processing operations. Catcher vessels catch groundfish with trawl gear and deliver unprocessed groundfish to either a shoreside or stationary floating processor, so the proposed Annual Trawl Catcher Vessel EDR (Trawl CV EDR) would collect economic and other data relating to the groundfish operations of these vessels. Shoreside processors operate on land and take deliveries of groundfish. SFPs operate near shore and take deliveries of groundfish from vessels and do not engage in groundfish fishing activities. The proposed Annual Shoreside Processor EDR (Processor EDR) would collect data related to both shoreside and SFP processing operations. These three operational groups and three types of EDRs are described in greater detail in the following sections of this preamble, and in the Analysis at Section 3.7 and briefly summarized as follows. Each of these three EDRs is discussed in detail in the Analysis in Section 3.9.

Trawl C/P EDR

Persons using trawl C/Ps to catch and process groundfish in the GOA during a calendar year would be required to submit a Trawl C/P EDR. The proposed Trawl C/P EDR would replace the EDR currently required under the Amendment 80 Program. Based on data from 2012, 22 vessels operate as trawl C/Ps in the GOA. Currently, and as explained further below, all but one of the persons using a trawl C/P in the GOA is subject to the requirements to submit an Amendment 80 EDR.

NMFS proposes to amend existing Amendment 80 C/P EDR regulations to create the trawl C/P EDR program. To minimize duplication with existing Amendment 80 regulatory requirements, this proposed rule would: (1) Change the name of the existing Amendment 80 Program EDR to the Trawl C/P EDR; (2) require all persons currently required to submit an Amendment 80 Program EDR to submit the Trawl C/P EDR; and (3) extend the requirements to submit a Trawl C/P EDR to all persons using trawl C/Ps to catch and process groundfish in the GOA if not already covered by the requirements of the Amendment 80 Program EDR. This proposed action would also streamline the regulatory text describing the information that must be entered in a Trawl C/P EDR form.

This proposed action would modify Amendment 80 program regulations at § 679.94(a) to rename the “Amendment 80 Economic Data Report” as the “Annual Trawl Catcher/Processor Economic Data Report” because the Trawl C/P EDR would now apply to more than just the participants in the Amendment 80 Program. This proposed rule would also include new regulations at § 679.94(a)(1) and at § 679.110(a)(3) to require the owner or leaseholder of any vessel named on a Limited License Program (LLP) groundfish license that authorizes a C/P using trawl gear to harvest and process LLP groundfish in the GOA to submit a Trawl C/P EDR as described at § 679.94 for that calendar year.

The instructions for submission of the Trawl C/P EDR would be described at both § 679.94(a)(1) and at § 679.110(a)(3). Because there would be GOA-based and BSAI Amendment 80-based trawl EDR submitters, NMFS proposes two separate regulatory references. Most of the Amendment 80 sector regulations, including those for the Amendment 80 Program EDR, are codified at 50 CFR 679.94. Thus, owners, operators, or leaseholders of Amendment 80 vessels that only operate in the BSAI would continue to find EDR regulations at § 679.94(a)(1), while the GOA trawl C/P submitters would find EDR submission requirements at § 679.110, which would describe the Gulf of Alaska Trawl Economic Data program.

Under this proposed action, any person who held an Amendment 80 quota share permit during a calendar year, or an owner or leaseholder of a vessel using trawl gear to harvest groundfish in the GOA and that processed groundfish on board that vessel during a calendar year, would be required to submit a Trawl C/P EDR. This requirement would ensure that those persons currently submitting an Amendment 80 Program EDR continue to submit data on their operations in the BSAI and GOA. This requirement would also ensure that any other persons owning or operating a trawl C/P vessel endorsed to fish in the GOA submit data from their operations in the GOA. This proposed change would ensure that the Trawl C/P EDR provides a comprehensive economic baseline on trawl C/Ps in the GOA.

Based on data provided in Section 3.9 of the Analysis, at least one Amendment 80 vessel owner that has not been subject to the Amendment 80 EDR requirements would be required to submit the Trawl C/P EDR under this proposed rule. The owner of the F/V Golden Fleece is currently exempt from the requirements to submit the Amendment 80 Program EDR because that vessel does not participate in the Amendment 80 Program. The owner would be required to submit the Trawl C/P EDR because the F/V Golden Fleece is used as a trawl C/P in the GOA. For more detailed information on the number of GOA trawl C/Ps subject to the Trawl C/P EDR, see the Analysis at Section 3.9.

This proposed action would streamline and remove unnecessary regulatory text found at § 679.94. Current regulatory text describes, in particular, data elements that must be submitted in the Amendment 80 EDR data fields, such as costs for oil, fuel, freight, storage, food and provisions. Proposed regulations at § 679.94 would specify that persons required to submit a Trawl C/P EDR would do so by filling out an electronic Trawl C/P EDR form with instructions that specify each data field in the form as opposed to describing each data field in regulation and in the data form. NMFS proposes this streamlined approach to simplify regulations, provide greater flexibility to modify specific data fields without requiring additional regulatory amendments, and reduce potential confusion if the text in the regulations and forms differ. Overall, this approach could provide submitters with a clearer understanding of the information that would be required.

The Council recommended and NMFS proposes this approach based on experience with other EDRs. The economic data collection programs for the BSAI CR Program and the Bering Sea pollock fishery use streamlined regulatory text and the EDRs provide detailed instructions and requirements. This approach allows NMFS to consult with EDR submitters and the Council, and based on the consultations, amend, add, or remove specific information requests as needed. This approach would ensure the EDR is providing the information necessary to assess the economic performance of trawl C/Ps in both the Amendment 80 fishery and the GOA on a more timely basis.

Concurrent with this proposed action, NMFS would provide notice of the proposed information collection in the Trawl C/P EDR form on the NMFS Web site at www.alaskafisheries.noaa.gov. Interested persons would have an opportunity to comment on the proposed Trawl C/P EDR information collection, consistent with the requirements of the Paperwork Reduction Act (PRA).

If the Secretary of Commerce approves this Trawl EDR Program, any additional proposed changes to the Trawl C/P EDR form in the future would be implemented consistent with the recordkeeping and reporting requirements established by the PRA. NMFS would provide an opportunity for public comment on any additional proposed changes to the Trawl C/P EDR form.

Although the specific elements in the Trawl C/P EDR form are not contained within the proposed regulatory text, the following section describes the proposed Trawl C/P EDR form so that the submitters understand the specific elements of the proposed information collection. To minimize repetition, the following section highlights changes in the proposed information collection in the Trawl C/P EDR form from the current Amendment 80 Program EDR form. Section 9.1 of the Analysis provides a detailed description of the current Amendment 80 Program EDR form.

Trawl C/P EDR Form

Contact Information, Capital Costs, Capacity, Revenue, and Expenditure Data for Trawl C/P EDR

NMFS proposes to collect the same general identifying information on owners, leaseholders, and representatives in the Trawl C/P EDR that was collected in the Amendment 80 Program EDR form. This would include names, addresses, unique vessel and person identifiers, and other contact information of owners and leaseholders of Amendment 80 QS permits and the vessels and operations. All previously implemented EDRs allow submitters the option to designate a representative whom NMFS could contact for questions on the submitted EDR. This option would be provided under this proposed action.

No revisions from the current Amendment 80 Program EDR form are proposed for general revenue data, capital expenditure data, or other expenses. Data requirements on vessel characteristics, vessel survey value, fuel capacity, processing capacity, and freezing space would be unchanged from the Amendment 80 Program EDR form.

Modifications to Amendment 80 Program EDR Vessel Activity Table for the Trawl C/P EDR

NMFS proposes that the Vessel Activity data table created for the Amendment 80 Program EDR form be placed in the Trawl C/P EDR form, but an additional field would be added to require trawl C/Ps to attribute the number of days of activity for fishing and processing in the GOA trawl fisheries versus other EEZ groundfish fishing or processing activity. This revision responds to the proposed action's objective to analyze economic effects of the GOA trawl fishery and seafood processing prior to and after implementation of any future catch share program.

Crew Employment, Payments, and License Data for Trawl C/P EDR

NMFS proposes that data on crew licenses and State of Alaska Commercial Fisheries Entry Commission (CFEC) limited entry fishing permit numbers of the fishing crew, should be included in the Trawl C/P EDR form. Neither the CFEC nor NMFS collect data identifying crew members who work aboard GOA trawl vessels. The only crew member data available for GOA groundfish fisheries are the annual counts of people who obtained crew licenses for fisheries in the State of Alaska, including where they live and where they bought their licenses. It is not possible to determine which of these licensed crew members fished in the GOA groundfish fishery or on a specific trawl vessel. Collecting these data annually would allow crew information to be linked to specific vessels. The vessel operator submission burden for these data would be minimized by allowing them access to a crew license/permit lookup file. This file would allow the person required to report the data to simply select their crew members from a list of permit holders. Access to the database should reduce the time and cost required for both the data collector and data provider to determine and correct, if necessary, misreported crew numbers.

Trawl CV EDR

This proposed action would include new regulations at § 679.110(a)(1) to describe the persons who must submit the Annual Trawl Catcher Vessel Economic Data Report (Trawl CV EDR). These persons would include any owner or leaseholder of a vessel that was named on a Limited License Program (LLP) groundfish license that authorizes a catcher vessel using trawl gear to harvest LLP groundfish species in the GOA for that year. Each of these persons must submit the Trawl CV EDR by following the instructions on the Trawl CV EDR form.

An LLP license is required for vessels participating in directed fishing for groundfish in the GOA or that retain any bycatch of groundfish while targeting non-groundfish in the EEZ (see § 679.4). A vessel must be named on an LLP license that is on board the vessel used to fish in the GOA, unless the vessel does not exceed 26 feet length overall (LOA). No trawl vessels less than 26 feet are active in the GOA. All trawl vessels currently active in the GOA are named on an LLP license. Therefore, tying the requirement to submit a Trawl CV EDR to the holder of an LLP license endorsed as a trawl CV in the GOA would capture participants who could use trawl gear to catch groundfish in the GOA groundfish fisheries. Based on 2012 data, there are currently 84 LLP licenses endorsed as trawl catcher vessels in the GOA.

As with the Trawl C/P EDR form, the specific data elements to be collected would be specified on the Trawl CV EDR form. Although the specific data elements in the Trawl CV EDR form are not contained within the proposed regulatory text, the following section describes the proposed Trawl CV EDR form so that the submitters understand the specific data elements of the proposed information collection.

As noted in the discussion of the Trawl C/P EDR form, NMFS does not intend to implement additional changes to the Trawl CV EDR form without first consulting with EDR submitters and the Council. Any additional proposed changes to the Trawl C/P EDR form would be implemented consistent with the recordkeeping and reporting requirements established by the PRA, and NMFS would provide an opportunity for public comment on any additional proposed changes to the form.

Trawl CV EDR Form

The Trawl CV EDR form would be a new EDR form collecting data on trawl CVs in the GOA. The EDR would collect baseline economic data on the GOA trawl fisheries. The Trawl CV EDR would collect (1) basic identifier and contact information for GOA trawl CV LLP holders; (2) labor information and employee identifiers; (3) payments to crew, captain, and other labor; (4) fuel usage and costs; and (5) gear purchases. The owner or leaseholder of a vessel named on an LLP, endorsed for CV operation and trawl gear in the GOA would be required to submit the Trawl CV EDR. Certification information would also be required in each Trawl CV EDR. For additional detail on the certification data, see the section “Certification of the GOA Trawl EDRs” in this preamble.

NMFS proposes that the Trawl CV EDR would require submission of detailed contact and personal identifier data on LLP license holders and identification information for the vessels to which those LLP licenses were assigned. Vessel identification information would include the Alaska Department of Fish and Game vessel registration number and United States Coast Guard documentation number. The names and addresses of the persons and the companies associated with vessel activities also are necessary to understand the structure of the business firms in the fishery. As with previously implemented EDR programs, the Trawl CV EDR form would allow an LLP holder to designate a representative as a contact person who could address NMFS' questions on the EDR.

Labor Data for Trawl CVs

NMFS proposes that the Alaska commercial crew member license number or a CFEC permit number for each individual who worked as a captain or crew member aboard a GOA trawl CV during the calendar year be submitted in the Trawl CV EDR form. As noted in the discussion on the Trawl C/P EDR form, these data are not currently collected by other means. The reason for including crew data for this EDR is similar to the reason for including this information in the Trawl C/P EDR form. These data will provide consistent information about the number of persons entering and exiting the trawl CV crew labor force, which is important baseline data for evaluating groundfish CVs operations in the GOA.

NMFS proposes that the Trawl CV EDR form collect data on the annual wages, salaries, or related payment to crew and captains who worked aboard the vessel. The Alaska commercial crew member license number or CFEC permit number data could be linked to the commercial crew database to provide more useful estimates of labor payments to resident and non-resident crew. The amount of the payment to crew and captains required in the Trawl CV EDR form would be the actual amount paid to crew and captains in their settlement, not their earnings before crew-related expenses (such as fuel, food, and provisions) were deducted. All post-season adjustments to pay also would be included in the crew and captain labor field.

In some cases, a captain who is not an LLP license holder may have information on payments to crew or have other data that would be submitted in the Trawl CV EDR form. NMFS' experience with previous EDRs shows that owners and leaseholders form agreements with their employees to provide the necessary data to report in an EDR. The owners and leaseholders of these vessels would be responsible for submitting a Trawl CV EDR form and would be expected to gather any necessary information, such as crew wage payments, from their employees or other persons as needed.

Fuel Usage and Gear Data for Trawl CVs

NMFS proposes that data on fuel use and cost, as well as the investment in gear in the GOA trawl fishery, would help evaluate the transitional effects of any future management programs. Data on fuel cost and gear purchases may assist the Council and NMFS to evaluate the efficiency of these operations by comparing fuel costs and gear purchases with data collected if a catch share program is implemented in the future. Reported costs for gear investments would include aggregate trawl gear purchases and leases in a calendar year (e.g., nets, doors, rollers, cables). These costs also would include those incurred for PSC excluder devices that are used with trawl gear in the GOA.

Processor EDR

The owner or leaseholder of a shoreside processor or stationary floating processor (SFP) with a Federal Processor Permit (FPP) that processes groundfish delivered by vessels fishing with trawl gear in the GOA would be required to submit a complete Annual Shoreside Processor Economic Data Report (Shoreside Processor EDR) for each calendar year by following the instructions on the Shoreside Processor EDR form. All shoreside processors and SFPs located within Alaska State waters and receiving or processing groundfish harvested from Federal waters or from any federally permitted vessel must have a Federal Processor Permit (FPP). FPPs are non-transferable permits, valid for one year from March 1 to February 28, issued to owners on request without charge. These permits are authorized at § 679.4(f).

SFPs in the GOA are limited to operating within State of Alaska waters and are restricted by how many times annually they can relocate for processing purposes. Motherships also are limited in the GOA. Motherships cannot receive deliveries of pollock and Pacific cod, but are authorized to receive deliveries of flatfish. In 2013, no motherships were operating in the GOA.

The Analysis shows that most of the shoreside processors receiving deliveries of Central GOA groundfish are located on Kodiak Island. Processors located in ports west of Kodiak tend to rely primarily on harvests from the Western GOA and the BSAI areas. Between 2008 and 2012, as many as 19 shoreside processors and SFPs held an FPP and received deliveries of groundfish from vessels using trawl gear in the GOA groundfish fisheries. Shorebased processors receiving catch from GOA trawl fisheries are located in Akutan, Dutch Harbor/Unalaska, King Cove, Kodiak, Sand Point, Seward, and Sitka. There were also two SFPs operating in the GOA that have taken groundfish harvested by trawl vessels in the GOA deliveries during 2008 through 2012.

This proposed action would include new regulations at § 679.110(a)(2) to require the owner or leaseholder of a shoreside processor or stationary floating processor (SFP) with an FPP that processes groundfish delivered by vessels fishing with trawl gear in the GOA to submit a complete Shoreside Processor EDR.

Although the analysis points out that the processor EDR should collect data from all Kodiak processors, including the Kodiak Fish Meal Company, NMFS can require data submission only from processors that are first receivers of fish. The Kodiak Fish Meal Company holds an FFP, but receives ancillary groundfish product (see definitions at § 679.2 for ancillary product) that is used to produce fish meal. Because section 303(b)(7) of the Magnuson-Stevens Act only allows NMFS to collect information from “first receivers of fish,” NMFS is not authorized to require that data submission from the Kodiak Fish Meal Company. Based on NMFS records, the Kodiak Fish Meal Company does not receive deliveries of raw groundfish from vessels using trawl gear, and therefore cannot be considered a first receiver of fish and cannot be required to submit a Processor EDR form. Because the Kodiak Fish Meal Company has participated in voluntary submissions of data to NMFS in the past, NMFS believes it may voluntarily submit the Processor EDR form.

As with the Trawl CV EDR form and the Trawl C/P EDR form, the specific data elements to be collected would be specified on the Processor EDR form. Although the specific data elements in the Processor EDR form are not contained within the proposed regulatory text, the following section describes the proposed Processor EDR form so that the submitters understand the specific elements of the proposed information collection.

As noted in the discussion of the Trawl C/P and Trawl CV EDR forms, if a final rule for the Trawl EDR Program is approved by the Secretary of Commerce, NMFS does not intend to implement additional changes to the Processor EDR form without first consulting with EDR submitters and the Council. Furthermore, any additional proposed changes to the Processor EDR form would be implemented consistent with the PRA. The PRA requires that any modification to a collection of information, such as revising or adding data fields to an EDR form, be made available for public comment.

Processor EDR Form

The proposed Processor EDR form would augment and improve the quality of NMFS' existing fisheries labor and employment data, and collect data about processor use of community utilities (for more information on specific data variables see the Analysis detail in Sections 3.9.2.3 and 3.9.2.4).

The Processor EDR form would collect monthly data on the average number of groundfish processing employment positions and the associated labor hours and wage payments. The proposed information collection would assist NMFS' comparison of labor costs among processing plants. These employment data elements would be aggregated in the EDR for all fisheries, GOA management areas, and gear types. Collecting data for each month allows analysts to focus on changes that occur during months of high groundfish processing, relative to other species (e.g., salmon). Employment labor by hours per month would be reported separately in one of two categories: By labor hours for employees using housing provided by the processor-or or by labor hours for employees that do not use housing provided by the processor.

NMFS determined that employment data from processors should not be broken out by fishery because employees may process fish from more than one fishery in a month or week, or participate in more than one type of processing job (e.g. processing line worker, processing manager). The reporting burden for processors to report labor data that is separated by fishery would be burdensome, and potentially delay implementation of this program.

The shoreside processors and SFPs who submit the Processor EDR would be required to estimate payments to non-processing workers, such as management staff. These data elements would assist NMFS in understanding how other support and management staff are compensated. This information may assist NMFS in understanding the impacts of income and employment of labor to the local economy, if these management employees are typically residents of the community in which the processing plant is located.

NMFS proposes that the Processor EDR form collect data on water and electric usage from Kodiak processing plants because the utilities are supplied by the local community. This section of the Shoreside Processor EDR would collect this data from Kodiak plants only and not from processors in other communities because of the large number of processing plants active in Kodiak, the potential economic effects of changes in processing activities on the local utility services, and that in many other communities in the GOA utilities may not be directly supplied by the local community. Large adjustments in processing capacity may impact the amount that processors are willing to pay for community supplied energy and other utilities. In some communities, energy suppliers have upgraded peak energy production or total energy capacity to supply processing plants. In other cases, communities have upgraded the capacity of other utilities (e.g. potable water supply or waste water treatment) based on the long-term needs for seafood processing operations. A large change in deliveries to processing plants that idled a significant amount of the seafood processing capacity at one or more processing plants could change utility prices in a community, which NMFS could assess with baseline data from the Processor EDR.

General Submission Requirements for all GOA Trawl EDRs

A completed Trawl C/P EDR, Trawl CV EDR, and Processor EDR form would be submitted to NMFS according to the instructions on each form. The proposed action would include new regulations at § 679.110(b) to require that the Trawl CV and Processor EDR forms be submitted on June 1 of each year, providing data from the prior calendar year of operations. Proposed regulations at § 679.110(b) would refer to the due date specified in § 679.94(a)(2) for the Trawl C/P EDR form. The Trawl C/P EDR form is also due on June 1 of each year, providing data from the prior calendar year of operations. For example, in 2017, the Trawl C/P EDR form would be used to submit with data from the 2016 calendar year.

The proposed action would include new regulations at § 679.110(c) to require that the Trawl CV, and Processor EDR forms be downloadable on the NMFS Alaska Region Web site at www.alaskafisheries.noaa.gov, or by contacting NMFS by phone. This proposed action would contain a similar new regulation at § 679.94(a)(3) for the Trawl C/P EDR form. Detailed instructions on each form would describe how to submit data through an electronic web-form operated by the data collection agent (DCA), or by mail to the DCA. This proposed rule would include a new definition for “Data Collection Agent” at § 679.2. The DCA would be described as the entity selected by the Regional Administrator (i.e., NMFS) to distribute an EDR to a person required to complete it, receive the completed EDR, review and verify the accuracy of the data in the EDR, and then provide the data to authorized recipients such as NMFS economists.

Submitter Certification of the GOA Trawl EDRs

NMFS proposes that persons submitting an EDR form certify the accuracy of information describing the owners or leaseholders of each vessel or processor, and contact information. The proposed action would include new regulations at § 679.110(d) to require completion of an EDR certification statement: (1) Attesting to the accuracy and completion of the EDR by signing and dating the certification portion of the applicable EDR form; or (2) attesting that the submitter meets the conditions exempting them from completing the entire EDR form as described in the certification portion of the applicable EDR form and sign and date the certification portion of the form. This proposed action would contain a similar new regulation at § 679.94(a)(4) for the Trawl C/P EDR form.

General certification information would be specified in each EDR form and would include: (1) The name of the submitter or designated representative; (2) contact information for those persons; (3) the Amendment 80 permit number, Trawl C/P vessel identification number, Trawl CV LLP permit number, or FPP permit number held by the person required to submit the EDR; and (5) a requirement for a person to attest to the accuracy of the data submitted.

The certification section of each EDR would also include information that can be used for a submitter to determine if they would be exempt from filling out certain sections of the EDR. For example, the certification information in the Trawl CV EDR requests information on whether the LLP license was assigned to a vessel that made landings of groundfish in the GOA using trawl gear in the previous calendar year. If the vessel did not, then the LLP license holder would not be required to fill out the remaining portions of the Trawl CV EDR.

Data Verification and Auditing for the GOA Trawl EDRs

The proposed action would include new regulations at § 679.110(e) to establish the procedures for Trawl CV and Processor EDR data audits. This proposed action would also contain a similar new regulation at § 679.94(b) for Trawl C/P EDR data audits. The auditing procedures for data submitted in both the Trawl CV and Processor EDR would be similar.

Regulations for the existing BSAI Crab CR Program and Amendment 80 Program EDRs authorize data verification and audits, and specify when EDR submitters are required to respond to NMFS inquiries regarding data accuracy and data completeness. Those procedures are summarized as follows: (1) NMFS will verify information and submitted data with the EDR submitter or designated representative; (2) the EDR submitter or designated representative must respond to NMFS' inquiries within 20 days of the date of the inquiry; and (3) the EDR submitter or designated representative must provide NMFS with additional information or data to facilitate verification.

NMFS proposes that the data verification and CR EDR and Amendment 80 auditing processes should be adopted for the EDR verification process and regulations. Data verification and audits will be conducted by NMFS staff, the DCA, and a designated data collection auditor (DDCA).

NMFS is proposing to define the term “data collection agent” at § 679.2 as the person NMFS selects to distribute EDRs to those required to complete it, receive the completed EDR, review and verify the accuracy of the data in the EDR, and provide those data to authorized recipients. This definition would not affect the roles and responsibilities of existing DCAs and clarifies the DCA's specific responsibilities.

NMFS is proposing to define the term “designated data collection auditor” at § 679.2 as an examiner employed by, or under contract to, the data collection agent (DCA) to verify data submitted in an economic data report or the NMFS-designated contractor to perform the functions of a data collection auditor.

Confidential Data and Blind Data for the GOA Trawl EDRs

Information submitted to NMFS in an EDR would be considered confidential and not disclosable to the public. Unless a court orders disclosure to other third parties, confidential data may be disclosed only to authorized persons, including NMFS employees, Council staff, NMFS, or Council contractors. Persons authorized to receive and handle confidential information must comply with agency measures that ensure the information is protected from accidental disclosure to the public. While the submitted information would be considered confidential, the information can be released to the public under certain circumstances. For example, information can be released if it has been aggregated or summarized with other submitter's information and does not reveal the submitter's identification or business. Section 3.6 of the Analysis describes the current aggregation standards used by NMFS.

NMFS proposes the use of blind data formatting before EDR data could be provided to authorized users such as NMFS economists and Council analytical staff. The requirement for blind data formatting would not apply to data submitted under the Trawl C/P EDR.

NMFS is proposing to include new regulations at § 679.110(f) to establish that unaggregated Trawl C/P EDR data may be released to authorized data users in blind data format only. NMFS is proposing to define the term “blind data” at § 679.2 as any data collected from an EDR by the data collection agent that are subsequently amended by removing personal identifiers, including, but not limited to social security numbers, crew permit numbers, names and addresses, Federal fisheries permit numbers, Federal processor permit numbers, Federal tax identification numbers, and State of Alaska vessel registration and permit numbers, and by adding in their place a nonspecific identifier. A non-specific identifier is a random number that is assigned to a unique to a vessel, plant or entity, and cannot be linked to a personal identifier such as a person's name, business name, or address.

This proposed regulation would further reduce the chances that confidential EDR information, such as proprietary information, would be accidently disclosed. The Council and NMFS determined that reducing the chances of accidental disclosure was seen as a greater potential benefit than those that could be gained if analysts could review a complete data set with identifiers.

Trawl C/P EDR information would be considered confidential and not disclosable to the public. The EDR information would be handled in accordance with existing Amendment 80 Program EDR procedures. Authorized NMFS, DCA, and Council staff would have access to all data collected in the Trawl C/P EDR. Trawl C/P EDR data, including individual identifiers from submitters, would not be converted to blind data. This is consistent with the intent of the Council and NMFS that all Trawl C/Ps catching groundfish in the GOA, including those that do not receive an Amendment 80 QS permit, be required to provide vessel specific information to analysts. These data would continue to assist in evaluating the economic conditions in the Amendment 80 Program and in any future GOA trawl groundfish management program. No unauthorized releases of individual Amendment 80 EDR data have occurred through use of vessel specific data by NMFS and the Council staff, and the participants in this sector have not expressed concerns regarding the security of specific vessel data. While the submitted information would be considered confidential, the information can be released to the public under certain circumstances. For example, information can be released if it has been aggregated or summarized with other submitter's information and doesn't reveal the submitter's identification or business. Section 3.6 of the Analysis describes the current aggregation standards used by NMFS.

Effective Date for the Proposed Action

The Council requested that the GOA Trawl EDR program be implemented as soon as practicable. If the Secretary of Commerce approves the final rule for this proposed action in 2014, completed annual EDRs from this action would be required for the entire year of 2015. The first EDRs would be provided to the DCA in June 2016, and annually for each year thereafter. This schedule would provide the submitters of the GOA Trawl EDRs with sufficient time to prepare and maintain records necessary to complete and submit an EDR. Persons subject to the EDR submission requirement would, for example, keep associated GOA trawl invoices starting January 1, 2015.

Classification

Pursuant to section 304(b)(1)(A) and 305(d) of the Magnuson-Stevens Act, the NMFS Assistant Administrator has determined that this proposed rule is consistent with the GOA and BSAI Groundfish FMPs, other provisions of the Magnuson-Stevens Act, and other applicable law, subject to further consideration after public comment.

This proposed rule has been determined not to be significant for the purposes of Executive Order 12866.

An RIR was prepared for this action that assesses all costs and benefits of available regulatory alternatives. The RIR describes the potential size, distribution, and magnitude of the economic impacts this action may be expected to have. The RIR shows that this action may create a small burden on commercial fishing operations because it increases recordkeeping and reporting costs. This action creates a small increase in administrative costs because NMFS will need to administer or revise a contract for verification and auditing of the proposed EDRs.

An Initial Regulatory Flexibility Analysis (IRFA) was prepared for this action, as required by section 603 of the Regulatory Flexibility Act (RFA). An IRFA is required to include: (a) A description of the reasons why action by the agency is being considered; (b) a succinct statement of the objectives of, and legal basis for, the proposed rule; (c) a description of and, where feasible, an estimate of the number of small entities to which the proposed rule will apply; (d) a description of the projected reporting, recordkeeping and other compliance requirements of the proposed rule; (e) an identification, to the extent practicable, of all relevant Federal rules which may duplicate, overlap or conflict with the proposed rule; and (f) a description of any significant alternatives to the proposed rule which accomplish the stated objectives of applicable statutes and which minimize any significant economic impact of the proposed rule on small entities. A summary of the analysis follows. A copy of this analysis is available from NMFS (see ADDRESSES).

The entities directly regulated by this action are (1) those entities that catch and process groundfish at-sea using trawl gear in the GOA; (2) those entities that own or lease vessels that are named on an LLP license and that are endorsed for trawl gear as a catcher vessel in any GOA endorsement area; (3) shoreside processors and SFPs that take deliveries of groundfish from vessels using trawl gear in the GOA; and (4) Western Alaska Community Development Quota (CDQ) groups.

Using the small entity threshold for a commercial finfishing entity, which became effective on July 14, 2014 (79 FR 33647, June 14, 2014), the number of employees worldwide for a processing entity, and entities that qualify for non-profit status, there were an estimated 52 small entities affected by this proposed action. Of 87 directly regulated trawl entities (including 47 CVs and one C/P, the F/V Golden Fleece), 48 were small entities under the $19 million threshold. Of 15 shoreside processors, two were small entities under the threshold for the number of employees, worldwide. Of six Community Development Quota program (CDQ) entities, two CDQ entities were small entities, under the threshold for non-profit entities under the CDQ program. Through the CDQ program, the Council and NMFS allocate a portion of the BSAI groundfish TACs, and PSC limits for Pacific halibut and several crab species, to 65 eligible Western Alaska communities. These communities work through six non-profit CDQ groups, which are required to use the proceeds from the CDQ allocations to start or support activities that will result in ongoing, regionally based, commercial fishery or related businesses. The CDQ group's ownership of harvesting vessels that operate in the GOA means that some of the group's activities could be directly regulated in the same manner as other small entities that own vessels harvesting groundfish in the GOA. Because they are nonprofit entities, the two CDQ groups that had ownership interests in trawl vessels that operated in the GOA groundfish fisheries in 2012 are considered small entities for RFA purposes.

An IRFA requires a description of any significant alternatives to the proposed action(s) that accomplish the stated objectives, are consistent with applicable statutes, and that would minimize any significant economic impact of the proposed rule on small entities. The alternatives selected by the Council were developed with the goal to minimize economic impacts of a data collection program. That goal has resulted in a limited data collection program that focuses on areas that are of greatest need, as the Council considers further development of a trawl catch share program in the GOA. The preferred alternative chosen by the Council and proposed by NMFS has several elements, including the Trawl C/P EDR, the Trawl CV EDR, and the Processor EDR. The preferred alternative (the action alternative to implement the GOA Trawl EDR Program) places somewhat larger reporting obligations on directly regulated small entities than the alternative of retaining the status quo. There are no alternatives that have a smaller adverse economic impact on directly regulated small entities that still achieve the objectives of the proposed GOA Trawl EDR Program.

NMFS evaluated a number of alternatives to the preferred alternative, including: (1) No action, (2) a variety of additional data fields for detecting reasons for decisions to use or not use various PSC avoidance devices or other behaviors to avoid PSC, (3) applying aggregation procedures to the data to limit analysts from having access to individual vessel or processor level observations, (4) collection of landings and production data, (5) creation of blind data for all vessels submitting the Trawl C/P EDR, (6) extending CV logbooks to vessels less than 60 feet length overall, (7) reporting employee activities of vessel owner, operator, or crew for readying a vessel before and after a fishing trip, and (8) itemizing each data reporting field in the GOA Trawl EDR Program in regulation.

Because current economic data on the GOA trawl fisheries and processing operations are not available for evaluating the range and magnitude of economic effects of introducing a modified program to best reduce and utilize PSC to the extent practicable in the future, the no action alternative (Alternative 1) would not achieve the objectives of the action. Each of the additional alternatives considered but not proposed, placed additional burden on reporting entities, and were not anticipated to improve the quality and accuracy of data that were necessary for understanding the current economic conditions in the GOA trawl fisheries, or provide substantially improved data to understand the potential impact of a GOA trawl catch share program. None of these alternatives met both the objectives of the action and had a smaller impact on small entities, compared with the preferred alternative.

The Analysis revealed no Federal rules that would conflict with, overlap, or be duplicated by the alternatives under consideration.

Collection-of-Information Requirements

This proposed rule contains collection-of-information requirements subject to review and approval by the Office of Management and Budget (OMB) under the Paperwork Reduction Act (PRA). These revisions have been submitted to OMB for approval. The collections are listed below by OMB control number.

OMB 0648-0564

Public reporting burden for Annual Trawl Catcher/Processor Economic Data Report (EDR) is estimated to average 22 hours per response. The name of this collection was previously Amendment 80 Program EDR for the Non-AFA Trawl Catcher/Processors.

OMB 0648-0000

Public reporting burden is estimated to average 15 hours per response for Annual Trawl Catcher Vessel EDR; and 3 hours per response for Annual Shoreside Processor EDR.

Estimated responses include the time for reviewing instructions, searching existing data sources, gathering and maintaining the data needed, and completing and reviewing the collection of information.

Public comment is sought regarding: Whether this proposed collection of information is necessary for the proper performance of the functions of the agency, including whether the information shall have practical utility; the accuracy of the burden estimate; ways to enhance the quality, utility, and clarity of the information to be collected; and ways to minimize the burden on the collection of information, including through the use of automated collection techniques or other forms of information technology.

Send comments on these or any other aspects of the collection of information to NMFS (see ADDRESSES) and by email to OIRA_Submission@omb.eop.gov, or fax to 202-395-7285.

Notwithstanding any other provision of the law, no person is required to respond to, nor shall any person be subject to a penalty for failure to comply with, a collection of information subject to the requirements of the PRA, unless that collection of information displays a currently valid OMB control number. All currently approved NOAA collections of information may be viewed at http://www.cio.noaa.gov/services_programs/prasubs.html.

List of Subjects in 50 CFR Part 679

Alaska, Fisheries, Reporting and recordkeeping requirements.

Dated: August 1, 2014.
Samuel D. Rauch III,
Deputy Assistant Administrator for Regulatory Programs, National Marine Fisheries Service.

For the reasons set out in the preamble, 50 CFR part 679 is proposed to be amended as follows:

PART 679—FISHERIES OF THE EXCLUSIVE ECONOMIC ZONE OFF ALASKA

1. The authority citation for part 679 continues to read as follows:

Authority: 16 U.S.C. 773 et seq.; 1801 et seq.; 3631 et seq., Pub. L. 108-447.

2. In § 679.2, add, in alphabetical order, definitions for “Blind data” and “Data collection agent,” and revise the definitions for “Designated data collection auditor” and “Economic data report” to read as follows:

§ 679.2 Definitions.

* * * * *

Blind data means any data collected from an economic data report by the data collection agent that are subsequently amended by removing personal identifiers, including, but not limited to social security numbers, crew permit numbers, names and addresses, Federal fisheries permit numbers, Federal processor permit numbers, Federal tax identification numbers, and State of Alaska vessel registration and permit numbers, and by adding in their place a nonspecific identifier.

* * * * *

Data collection agent (DCA) means the entity selected by the Regional Administrator to distribute an EDR to a person required to complete it, to receive the completed EDR, to review and verify the accuracy of the data in the EDR, and to provide those data to authorized recipients.

* * * * *

Designated data collection auditor (DDCA) means an examiner employed by, or under contract to, the data collection agent (DCA) to verify data submitted in an economic data report or the NMFS-designated contractor to perform the functions of a data collection auditor.

* * * * *

Economic data report (EDR) means the report of cost, labor, earnings, and revenue data required under § 679.65, § 679.94, and § 679.110.

* * * * *

3. Revise § 679.94 to read as follows:

§ 679.94 Economic data report (EDR) for the Amendment 80 sector and Gulf of Alaska Trawl Catcher/Processors.

(a) Annual Trawl Catcher/Processor Economic Data Report (EDR)—(1) Requirement to submit an EDR. A person who held an Amendment 80 QS permit during a calendar year, or an owner or leaseholder of a vessel that was named on a Limited License Program (LLP) groundfish license that authorizes a Catcher/Processor using trawl gear to harvest and process LLP groundfish species in the GOA must submit a complete Annual Trawl Catcher/Processor EDR for that calendar year by following the instructions on the Annual Trawl Catcher/Processor EDR form.

(2) Deadline. A completed EDR or EDR certification pages must be submitted as required on the form to NMFS for each calendar year on or before 1700 hours, A.l.t., June 1 of the following year.

(3) Information required. The Annual Trawl Catcher/Processor EDR form is available on the NMFS Alaska Region Web site at www.alaskafisheries.noaa.gov, or by contacting NMFS at 1-800-304-4846.

(4) EDR certification pages. Any person required to submit an EDR under paragraph (a)(1) of this section, or their designated representative, if applicable, must submit the EDR certification statement as either:

(i) Part of the entire EDR. Persons submitting the completed EDR must attest to the accuracy and completion of the EDR by signing and dating the certification portion of the EDR form; or

(ii) EDR certification only. Persons submitting a completed EDR certification only must attest that they meet the conditions exempting them from submitting the entire EDR as described in the certification portion of the Annual Trawl Catcher/Processor EDR form and sign and date the certification portion of the EDR form.

(b) Verification of EDR data. (1) NMFS, the DCA, or the DDCA will conduct verification of information with persons required to submit the Annual Trawl Catcher/Processor EDR, or if applicable, that person's designated representative.

(2) Persons required to submit the Annual Trawl Catcher/Processor EDR or designated representative, if applicable, must respond to inquiries by NMFS, the designated DCA, or the DDCA within 20 days of the date of issuance of the inquiry.

(3) The persons required to submit the Annual Trawl Catcher/Processor EDR or designated representative, if applicable, must provide copies of additional data to facilitate data verification. NMFS, the DCA, or the DDCA may review and request copies of additional data provided by the persons required to submit the Annual Trawl Catcher/Processor EDR form or designated representative, if applicable, including but not limited to, previously audited or reviewed financial statements, worksheets, tax returns, invoices, receipts, and other original documents substantiating the data submitted in an Annual Trawl Catcher/Processor EDR form.

4. Add subpart J, consisting of § 679.110, to read as follows:

Subpart J—Gulf of Alaska Trawl Economic Data

§ 679.110 Gulf of Alaska Trawl Economic Data Reports (EDRs).

(a) Requirements to submit an EDR—(1) GOA Trawl Catcher Vessels. The owner or leaseholder of any vessel that was named on a Limited License Program (LLP) groundfish license that authorizes a catcher vessel using trawl gear to harvest LLP groundfish species in the GOA must submit a complete Annual Trawl Catcher Vessel Economic Data Report (EDR) for that calendar year by following the instructions on the Annual Trawl Catcher Vessel EDR form.

(2) GOA Shoreside Processors and Stationary Floating Processors. The owner or leaseholder of a shoreside processor or stationary floating processor with a Federal Processor Permit (FPP) that processes groundfish caught by vessels fishing with trawl gear in the GOA must submit a complete Annual Shoreside Processor Economic Data Report (EDR) for that calendar year by following the instructions on the Annual Shoreside Processor EDR form.

(3) Annual Trawl Catcher/Processor Economic Data Report (EDR). The owner or leaseholder of a vessel that was named on a Limited License Program (LLP) groundfish license that authorizes a Catcher/Processor using trawl gear to harvest and process LLP groundfish in the GOA must submit an Annual Trawl Catcher/Processor EDR as described at § 679.94 for that calendar year.

(b) Deadline. A completed EDR or EDR certification page for:

(1) The Annual Trawl Catcher Vessel EDR or the Annual Shoreside Processor EDR must be submitted to the DCA for each calendar year on or before 1700 hours, A.l.t., June 1 of the following year, or

(2) The Annual Trawl Catcher/Processor EDR must be submitted to NMFS as required at § 679.94(a)(2).

(c) Information required. The Annual Trawl Catcher Vessel EDR, Annual Shoreside Processor EDR, and Annual Trawl Catcher/Processor EDR forms are available on the NMFS Alaska Region Web site at www.alaskafisheries.noaa.gov, or by contacting NMFS at 1-800-304-4846.

(d) EDR certification. Any person required to submit an EDR under paragraph (a) of this section, or the designated representative, if applicable, must submit the EDR certification statement as either:

(1) Part of the entire EDR. Persons submitting the applicable EDR form must attest to the accuracy and completion of the EDR by signing and dating the certification portion of the applicable EDR form; or

(2) EDR certification only. Persons submitting a completed EDR certification only must attest that they meet the conditions exempting them from submitting the entire EDR as described in the certification portion of the applicable EDR form and sign and date the certification portion of the form.

(e) Verification of EDR data. (1) NMFS, the DCA, or the DDCA will conduct verification of information with persons required to submit the applicable EDR, or if applicable, that person's designated representative.

(2) The persons required to submit the applicable EDR or designated representative, if applicable, must respond to inquiries by NMFS, the designated DCA, or the DDCA within 20 days of the date of issuance of the inquiry.

(3) The persons required to submit the applicable EDR or designated representative, if applicable, must provide copies of additional data to facilitate data verification. NMFS, the DCA, or the DDCA may review and request copies of additional data provided by the persons required to submit the applicable EDR form or designated representative, if applicable, including but not limited to, previously audited or reviewed financial statements, worksheets, tax returns, invoices, receipts, and other original documents substantiating the data submitted in an EDR form.

(f) DCA authorization. Except for EDR data submitted as required under 679.94(a), the DCA is authorized to release unaggregated EDR data to authorized data users in blind data format only.

[FR Doc. 2014-18675 Filed 8-8-14; 8:45 am]

BILLING CODE 3510-22-P